DEPARTMENT OF TRANSPORTATION

Federal Aviation Administration

14 CFR Part 39

[Docket No. FAA-2007-29060; Directorate Identifier 2007-NE-34-AD]

RIN 2120-AA64

Airworthiness Directives; International Aero Engines (IAE)

AGENCY: Federal Aviation Administration (FAA), DOT.

ACTION: Notice of proposed rulemaking (NPRM).

SUMMARY: The FAA proposes to adopt a new airworthiness directive (AD) for IAE V2500-A1, V2527E-A5, V2527M-A5, V2528-D5, V2530-A5, and V2533-A5 turbofan engines. This proposed AD would require a onetime inspection of certain vortex reducers for cracks, and replacing the reducer and high-pressure (HP) compressor stage 3-8 drum if the reducer is cracked. This proposed AD results from reports of fractured vortex reducers found at shop visits. We are proposing this AD to inspect for cracks in the vortex reducer. Cracks in the vortex reducer could cause an uncontained failure of the HP compressor stage 3-8 drum, which could result in damage to the airplane.

DATES: We must receive any comments on this proposed AD by June 29, 2009.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact International Aero Engines, 400 Main St., East Hartford, CT 06108; telephone (860) 565-5515, fax (860) 565-0600 for a copy of the service information identified in this AD.

FOR FURTHER INFORMATION CONTACT: Kevin Dickert, Aerospace Engineer, Engine Certification Office, FAA, Engine & Propeller Directorate, 12 New England Executive Park, Burlington, MA 01803; e-mail: kevin_dickert@faa.gov; telephone (781) 238-7117; fax (781) 238-7199.

SUPPLEMENTARY INFORMATION:

Comments Invited

We invite you to send us any written relevant data, views, or arguments regarding this proposal. Send your comments to an address listed under ADDRESSES. Include “Docket No. FAA-2007-29060; Directorate Identifier 2007-NE-34-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

International Aero Engines has informed us that they received reports of two fractured vortex reducers found at engine shop visits. Those findings prompted IAE to perform stress analyses and lifing work on both the vortex reducer and the HP compressor stage 3-8 drum. That work showed that a cracked vortex reducer leads to an increase in stress levels at the bolt holes of the HP compressor stage 3-8 drum. For certain stage 3-8 drums, the stress increase at the stage 8 bolt holes could lead to a reduced drum life depending on the drum life when the vortex reducer was cracked and the thrust rating of the engine. Stage 3-8 drums, part numbers (P/Ns) 6A5467, 6A6473, and 6A7401, could fail from the increased loading caused by a cracked vortex reducer. This condition, if not corrected, could cause an uncontained failure of the HP compressor stage 3-8 drum, which could result in damage to the airplane.

Relevant Service Information

We have reviewed and approved the technical contents of IAE Service Bulletin (SB) V2500-ENG-72-0510, Revision 1, dated October 8, 2007, that describes procedures for inspecting the vortex reducer for cracks.

FAA's Determination and Requirements of the Proposed AD

We have evaluated all pertinent information and identified an unsafe condition that is likely to exist or develop on other products of this same type design. We are proposing this AD, which would require a onetime fluorescent penetrant inspection of certain vortex reducers for cracks.

Costs of Compliance

We estimate that this proposed AD would affect no engines installed on airplanes of U.S. registry. Based on this, we estimate there is no cost to U.S. operators for the proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

International Aero Engines: Docket No. FAA-2007-29060; Directorate Identifier 2007-NE-34-AD.

Comments Due Date

(a) The Federal Aviation Administration (FAA) must receive comments on this airworthiness directive (AD) action by June 29, 2009.

Affected ADs

(b) None.

Applicability

(c) This AD applies to International Aero Engines (IAE) V2500-A1, V2527E-A5, V2527M-A5, V2528-D5, V2530-A5, and V2533-A5 turbofan engines with high pressure (HP) compressor stage 3-8 drums, part numbers (P/Ns) 6A5467, 6A6473, and 6A7401, installed. These engines are installed on, but not limited to, Airbus A319, A320, and A321 series airplanes and Boeing MD-90 airplanes.

Unsafe Condition

(d) This AD results from reports of fractured vortex reducers found at shop visits. We are issuing this AD to inspect for cracks in the vortex reducer. Cracks in the vortex reducer could cause an uncontained failure of the HP compressor stage 3-8 drum, which could result in damage to the airplane.

Compliance

(e) You are responsible for having the actions required by this AD performed within the compliance times specified unless the actions have already been done.

Onetime Fluorescent Penetrant Inspection

(f) Fluorescent penetrant inspect the vortex reducer for cracks when the HPC stage 3-8 drum has between 3,000 and 13,500 cycles since new (CSN) if all of the following conditions also apply:

(1) The HPC stage 3-8 drum has ever operated in an engine at the V2527E-A5, V2527M-A5, V2528-D5, V2530-A5 thrust ratings,

(2) The vortex reducer had cycles accumulated on it when mated with the HPC stage 3-8 drum, and

(3) The HPC stage 3-8 drum had fewer than 3,000 CSN when mated to the vortex reducer.

(g) If the vortex reducer is cracked, remove both the vortex reducer and the HPC stage 3-8 drum from service.

(h) After the effective date of this AD, do not return to service any HPC stage 3-8 drum that was removed as specified in paragraph (g) of this AD.

Alternative Methods of Compliance

(i) The Manager, Engine Certification Office, has the authority to approve alternative methods of compliance for this AD if requested using the procedures found in 14 CFR 39.19.

Related Information

(j) Contact Kevin Dickert, Aerospace Engineer, Engine Certification Office, FAA, Engine & Propeller Directorate, 12 New England Executive Park, Burlington, MA 01803; e-mail: kevin_dickert@faa.gov; telephone (781) 238-7117; fax (781) 238-7199, for more information about this AD.

Issued in Burlington, Massachusetts, on April 27, 2009.
Peter A. White,
Assistant Manager, Engine and Propeller Directorate, Aircraft Certification Service.

[FR Doc. E9-9965 Filed 4-29-09; 8:45 am]

BILLING CODE 4910-13-P